DEPARTMENT OF TRANSPORTATION

National Highway Traffic Safety Administration

[Docket No. NHTSA-2014-0002]

Reports, Forms and Recordkeeping Requirements; Agency Information Collection Activity Under OMB Review

AGENCY: National Highway Traffic Safety Administration (NHTSA), U.S. Department of Transportation.

ACTION: Request for public comment on renewal of existing information collections.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes a renewal of existing information collections for which NHTSA intends to seek OMB approval.

DATES: Comments must be received by March 17, 2014.

ADDRESSES: You may submit comments, identified by one or both of the docket numbers in the heading of this document, by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: 1200 New Jersey Avenue SE., West Building Ground Floor, Room W12-140, between 9 a.m. and 5 p.m. ET, Monday through Friday, except Federal holidays.

• Fax: 202-493-2251.

FOR FURTHER INFORMATION CONTACT: Andréa A. Noel, Office of Defects Investigation, NHTSA, 1200 New Jersey Avenue SE., West Building, NVS-210, Washington, DC 20590. Telephone: (202) 493-0210. For access to background documents, please contact Ms. Noel.

SUPPLEMENTARY INFORMATION: Under the Paperwork Reduction Act of 1995 (PRA), before an agency submits a proposed collection of information to OMB for approval, it must first publish a document in the Federal Register providing a 60-day comment period and otherwise consult with members of the public and affected agencies concerning the proposed collection of information. OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the renewal of the following described collections of information:

Title: Record Retention.

Type of Request: Renewal of a currently approved information collection.

OMB Control Number: 2127-0042.

Affected Public: Vehicle manufacturers and vehicle equipment manufacturers (including tire and child restraint system manufacturers).

Abstract: Under 49 U.S.C. 30166(e), NHTSA “reasonably may require a manufacturer of a motor vehicle or motor vehicle equipment to keep records, and a manufacturer, distributor, or dealer to make reports, to enable [NHTSA] to decide whether the manufacturer, distributor or dealer has complied or is complying with this chapter or a regulation prescribed or order issued under this chapter.”

To ensure that NHTSA will have access to this type of information, the agency exercised the authority granted in 49 U.S.C. 30166(e) and promulgated 49 CFR Part 576, Record Retention, initially published on August 20, 1974 (39 FR 30045) and most recently amended on July 10, 2002 (67 FR 45873), requiring manufacturers to retain one copy of all records that contain information concerning malfunctions that may be related to motor vehicle safety for a period of five calendar years after the record is generated or acquired by the manufacturer. Part 576 also requires manufacturers to retain for five years the underlying records related to early warning reporting (EWR) information submitted under 49 CFR part 579.

Estimated annual burden: Approximately one thousand manufacturers of vehicles and equipment (including tires and child restraint systems) are required to maintain records. We estimate their burden at 40 hours each for a subtotal of 40,000 hours (1,000 respondents × 40 hours). In addition, there are approximately 23,600 equipment manufacturers (excluding child seat and tire manufacturers) whose record retention requirements under part 576 are limited to the documents underlying their part 579 reporting requirements. Their part 579 requirements include only the reporting of incidents involving deaths. Therefore, based on the number of death reports submitted to date by these equipment manufacturers, we estimate that an additional 20 equipment manufacturers have record retention requirements imposed by part 576. We estimate that it will take one hour each to maintain the necessary records for a subtotal burden of 20 hours (20 respondents × one hour). Accordingly, the estimate of total annual burden hours is 40,020 hours (1,000 respondents × 40 hours plus 20 respondents × 1 hour).

Number of respondents: 1,020.

Below are detailed instructions for submitting comments on this collection and additional information on the commenting process.

How do I prepare and submit comments?

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Comments may be submitted to the docket electronically by logging onto the Docket Management System Web site at http://www.regulations.gov. Follow the online instructions for submitting comments.

You may also submit two copies of your comments, including the attachments, to Docket Management at the address given above under ADDRESSES.

Please note that pursuant to the Data Quality Act, in order for substantive data to be relied upon and used by the agency, it must meet the information quality standards set forth in the OMB and DOT Data Quality Act guidelines. Accordingly, we encourage you to consult the guidelines in preparing your comments. OMB's guidelines may be accessed at http://www.whitehouse.gov/omb/fedreg/reproducible.html. DOT's guidelines may be accessed at http://www.rita.dot.gov/bts/sites/rita.dot.gov.bts/files/subject_areas/statistical_policy_and_research/data_quality_guidelines/html/guidelines.html.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, you should submit three copies of your complete submission, including the information you claim to be confidential business information, to the Chief Counsel, NHTSA, at 1200 New Jersey Avenue SE., West Building, Washington, DC 20590. In addition, you should submit two copies, from which you have deleted the claimed confidential business information, to Docket Management at the address given above under ADDRESSES. When you send a comment containing information claimed to be confidential business information, you should include a cover letter setting forth the information specified in our confidential business information regulation. (49 CFR part 512)

Will the agency consider late comments?

We will consider all comments that Docket Management receives before the close of business on the comment closing date indicated above under DATES. To the extent possible, we will also consider comments that Docket Management receives after that date.

How can I read the comments submitted by other people?

You may read the comments received by Docket Management at the address given above under ADDRESSES. The hours of the Docket are indicated above in the same location. You may also see the comments on the Internet. To read the comments on the Internet, go to http://www.regulations.gov. Follow the online instructions for accessing the dockets.

Please note that even after the comment closing date, we will continue to file relevant information in the Docket as it becomes available. Further, some people may submit late comments. Accordingly, we recommend that you periodically check the Docket for new material.

Privacy Act

Anyone is able to search the electronic form of all comments received into any of our dockets by the name of the individual submitting the comment (or signing the comment, if submitted on behalf of an association, business, labor union, etc.). You may review DOT's complete Privacy Act Statement in the Federal Register published on April 11, 2000, (65 FR 19477) or you may visit http://www.dot.gov/privacy.html.

Issued on: January 9, 2014 in Washington, DC, under authority delegated in 49 CFR 1.95.
Frank Borris,
Director, Office of Defects Investigation, Office of Enforcement.

[FR Doc. 2014-00640 Filed 1-15-14; 8:45 am]

BILLING CODE 4910-59-P